DEPARTMENT OF COMMERCE

International Trade Administration

[A-552-802]

Certain Frozen Warmwater Shrimp From the Socialist Republic of Vietnam: Partial Rescission of Antidumping Duty Administrative Review; 2017-2018

AGENCY: Enforcement and Compliance, International Trade Administration, Department of Commerce.

SUMMARY: The Department of Commerce (Commerce) is rescinding the administrative review, in part, of the antidumping duty order on certain frozen warmwater shrimp from the Socialist Republic of Vietnam (Vietnam) for the period February 1, 2017, through January 31, 2018.

DATES: Applicable August 9, 2018.

FOR FURTHER INFORMATION CONTACT: Irene Gorelik, AD/CVD Operations, Office VIII, Enforcement and Compliance, International Trade Administration, Department of Commerce, 1401 Constitution Avenue NW, Washington, DC 20230; telephone: (202) 482-6905.

SUPPLEMENTARY INFORMATION:

Background

On April 16, 2018, based on timely requests for review for 94 companies by Ad Hoc Shrimp Trade Action Committee (the petitioner),¹ 97 companies by the American Shrimp Processors Association (ASPA),² and by various Vietnamese companies,³ Commerce published in the Federal Register a notice of initiation of an administrative review of the antidumping duty order on certain frozen warmwater shrimp from Vietnam covering the period February 1, 2017, through January 31, 2018.⁴

¹ See the petitioner's Request for Administrative Review, dated February 28, 2018.

² See ASPA's Request for Administrative Review, dated February 27, 2018.

³ See, e.g., Soc Trang Seafood Joint Stock Company's submission, “Request for Review,” dated February 27, 2018.

⁴ See Initiation of Antidumping and Countervailing Duty Administrative Reviews, 83 FR 16298 (April 16, 2018) (Initiation Notice).

On July 11, 2018, Soc Trang Seafood Joint Stock Company withdrew its request for administrative review.⁵ On July 11, 2018, both the petitioner and ASPA also withdrew their respective requests for an administrative review of Soc Trang Seafood Joint Stock Company and its various name iterations, as listed in the Initiation Notice.⁶ Subsequently, on July 12, 2018, the petitioner and ASPA also withdrew their respective requests for administrative review of Seavina Joint Stock Company and its various name iterations, as listed in the Initiation Notice.⁷ No other party requested a review of Seavina Joint Stock Company.

⁵ See Soc Trang Seafood Joint Stock Company's Letter, “Withdrawal of Request for Review,” dated July 11, 2018.

⁶ See the petitioners' Submission, “Domestic Producers' Partial Withdrawal of Review Requests,” dated July 11, 2018, and ASPA's Submission, “Partial Withdrawal of Request for Administrative Review,” dated July 11, 2018.

⁷ See ASPA's Submissions, “Partial Withdrawal of Review for Administrative Review,” dated July 12, 2018 and the petitioner's Submission, “Partial Withdrawal of Review Requests,” dated July 12, 2018.

Partial Rescission of Review

Pursuant to 19 CFR 351.213(d)(1), Commerce will rescind an administrative review, in whole or in part, if the party that requested the review withdraws its request within 90 days of the publication of the notice of initiation of the requested review. Because all requests for administrative review of Soc Trang Seafood Joint Stock Company and Seavina Joint Stock Company were withdrawn within 90 days of the date of publication of the Initiation Notice, and no other interested party requested a review of these companies, Commerce is rescinding this review with respect to Soc Trang Seafood Joint Stock Company and Seavina Joint Stock Company, in accordance with 19 CFR 351.213(d)(1). The administrative review remains active with respect to all other companies initiated for review.

Assessment

Commerce will instruct U.S. Customs and Border Protection (CBP) to assess antidumping duties on all appropriate entries at a rate equal to the cash deposit of estimated antidumping duties required at the time of entry, or withdrawal from warehouse, for consumption, during the period February 1, 2017, through January 31, 2018, in accordance with 19 CFR 351.212(c)(1)(i). Commerce intends to issue appropriate assessment instructions to CBP 15 days after the publication of this notice in the Federal Register.

Notifications

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: August 3, 2018.
James Maeder,
Associate Deputy Assistant Secretary for Antidumping and Countervailing Duty Operations performing the duties of Deputy Assistant Secretary for Antidumping and Countervailing Duty Operations.

[FR Doc. 2018-17051 Filed 8-8-18; 8:45 am]

BILLING CODE 3510-DS-P